EQUAL EMPLOYMENT OPPORTUNITY COMMISSION

Sunshine Act Notice

AGENCY HOLDING THE MEETING: Equal Employment Opportunity Commission.

DATE AND TIME: Wednesday, January 16, 2013, 9:30 a.m. Eastern Time.

PLACE: Commission Meeting Room on the First Floor of the EEOC Office Building, 131 “M” Street NE., Washington, DC 20507.

STATUS: The meeting will be closed to the public.

MATTERS TO BE CONSIDERED:

Closed Session

Agency Adjudication and Determination on Federal Agency Discrimination Complaint Appeals.

Note: Any matter not discussed or concluded may be carried over to a later meeting. (In addition to publishing notices on EEOC Commission meetings in the Federal Register, the Commission also provides a recorded announcement a full week in advance on future Commission sessions.)

Please telephone (202) 663-7100 (voice) and (202) 663-4074 (TTY) at any time for information.

CONTACT PERSON FOR MORE INFORMATION: Bernadette B. Wilson, Acting Executive Officer on (202) 663-4077.

This Notice issued January 9, 2013.

Dated: January 9, 2013.
Bernadette B. Wilson,
Acting Executive Officer, Executive Secretariat.

[FR Doc. 2013-00588 Filed 1-9-13; 4:15 pm]

BILLING CODE 6570-01-P